DEPARTMENT OF JUSTICE

Notice of Lodging Proposed Consent Decree

In accordance with Departmental Policy, 28 CFR 50.7, notice is hereby given that a proposed Consent Decree in United States, et al. v. Trans Energy, Inc., Civil Action No. 5:14-cv-00117-FPS, was lodged with the United States District Court for the Northern District of West Virginia on September 2, 2014.

This proposed Consent Decree concerns a complaint filed by the United States and the State of West Virginia against Trans Energy, Inc. pursuant to Section 309(b) and (d) of the Clean Water Act, 33 U.S.C. 1319(b) and (d), the West Virginia Water Pollution Control Act, W. Va. Code § 22-11-22, and the West Virginia Dam Control and Safety Act, W. Va. Code Chapter 22, Article 14, to obtain injunctive relief from and impose civil penalties against the Defendant for violating the Clean Water Act by discharging pollutants without a permit into waters of the United States. The proposed Consent Decree resolves these allegations by requiring the Defendant to restore the impacted areas, perform mitigation, implement a compliance program, and pay a civil penalty.

The Department of Justice will accept written comments relating to this proposed Consent Decree for thirty (30) days from the date of publication of this Notice. Please address comments to: Amanda Berman, Trial Attorney, United States Department of Justice, Environment and Natural Resources Division, Environmental Defense Section, Post Office Box 7611, Washington, DC 20044, and refer to United States, et al. v. Trans Energy, Inc., Civil Action No. 5:14-cv-00117-FPS, DJ # 90-5-1-1-19980.

The proposed Consent Decree may be examined at the Clerk's Office, United States District Court for the Northern District of West Virginia, 500 West Pike Street, Room 301, Clarksburg, WV 26302. In addition, the proposed Consent Decree may be examined electronically at http://www.justice.gov/enrd/Consent_Decrees.html.

Cherie L. Rogers,
Assistant Section Chief, Environmental Defense Section, Environment and Natural Resources Division.

[FR Doc. 2014-21672 Filed 9-10-14; 8:45 am]

BILLING CODE 4410-15-P